DEPARTMENT OF AGRICULTURE

Forest Service

Information Collection; Pesticide-Use Proposal

AGENCY: Forest Service, USDA.

ACTION: Notice; request for comment.

SUMMARY: In accordance with the Paperwork Reduction Act of 1995, the Forest Service is seeking comments from all interested individuals and organizations on the new information collection, Pesticide-Use Proposal.

DATES: Comments must be received in writing on or before July 14, 2014 to be assured of consideration. Comments received after that date will be considered to the extent practicable.

ADDRESSES: Comments concerning this notice should be addressed to Stephen A. Covell, Mail Stop 1110, USDA Forest Service, Forest Health Protection, 1400 Independence Avenue SW., Washington, DC 20250.

Comments also may be submitted by email to scovell@fs.fed.us.

Comments submitted in response to this notice may be made available to the public through relevant Web sites and upon request. For this reason, please do not include in your comments information of a confidential nature, such as sensitive personal information or proprietary information. If you send an email comment, your email address will be automatically captured and included as part of the comment that is placed in the public docket and made available on the Internet. Please note that responses to this public comment request containing any routine notice about the confidentiality of the communication will be treated as public comments that may be made available to the public notwithstanding the inclusion of the routine notice.

The public may inspect the draft supporting statement and/or comments received at 201 14th Street SW., Washington, DC 20250 during normal business hours. Visitors are encouraged to call ahead to 703-605-5342 to facilitate entry to the building. The public may request an electronic copy of the draft supporting statement and/or any comments received be sent via return email. Requests should be emailed to scovell@fs.fed.us.

FOR FURTHER INFORMATION CONTACT: Mr. Stephen A. Covell, State and Private Forestry, Forest Health Protection, telephone 703-605-5342, email scovell@fs.fed.us. Individuals who use telecommunication devices for the deaf (TDD) may call the Federal Relay Service (FRS) at 1-800-877-8339 twenty-four hours a day, every day of the year, including holidays.

SUPPLEMENTARY INFORMATION: Title: Pesticide-Use Proposal.

OMB Number: 0596-NEW.

Type of Request: New.

Abstract: USDA Forest Service (FS) has Federal land stewardship responsibilities for approximately 193 million acres. FS land management responsibilities require use of integrated pest management, which in certain circumstances includes use of pesticides. FS currently uses form FS-2100-2, Pesticide-Use Proposal (PUP) internally to collect and review pesticide-applications intended to control pests of grasslands and forests under its administrative responsibility (under FSM 2150, and FSH 2109.14). FS anticipates requests from outside entities for application of pesticides upon FS-administered lands within rights-of-way easements, permitted lands, and under similar circumstances. The FS proposes to use the PUP form to collect pesticide project information from those outside entities to facilitate authorization of selected activities. Completion of the PUP form includes identification of pests to be controlled, pesticide to be applied, and other regulatory compliance information such as use of certified applicators. Because diverse pesticide-use projects are designed for local conditions, it is appropriate for the PUP form to be used to ensure that essential details are uniformly assembled for review. Proposals will be evaluated by FS pesticide use coordinators and other administrative personnel to safeguard human health and ecological protection consistent with FS land use management programs. Form and instructions will be posted on a FS Web site for ready public availability.

Affected Public: Individuals and Households, Businesses and Organizations, and State, Local or Tribal Governments responsible for vegetation management along rights-of-way across lands administered by the Forest Service.

Estimate of Burden per response: 12 hours.

Estimated Annual Number of Respondents: 36.

Estimated Annual Number of Responses: 50.

Estimated Total Annual Burden on Respondents: 600 hours.

Comment is Invited: Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Dated: May 7, 2014.
James Hubbard,
Deputy Chief, State and Private Forestry.

[FR Doc. 2014-10938 Filed 5-12-14; 8:45 am]

BILLING CODE 3411-15-P